DEPARTMENT OF HEALTH AND HUMAN SERVICES

Food and Drug Administration

[Docket No. FDA-2019-N-0001]

Food and Drug Administration Science Forum 2019; Public Workshop

AGENCY: Food and Drug Administration, HHS.

ACTION: Notice of public workshop.

SUMMARY: The Food and Drug Administration (FDA or the Agency) is announcing the following public workshop entitled “FDA Science Forum 2019.” The purpose of the public workshop is to share with the public the unique scientific research and collaborative efforts of FDA's 11,000 scientists and researchers, who use novel science and technologies to inform FDA's regulatory decision-making—and drive innovation.

DATES: The public workshop will be held on September 11, 2019, from 8:30 a.m. to 4:40 p.m., and September 12, 2019, from 9 a.m. to 4 p.m. See the SUPPLEMENTARY INFORMATION section for registration date and information.

ADDRESSES: The public workshop will be held at FDA White Oak Campus, 10903 New Hampshire Ave., Bldg. 31, Conference Center, the Great Room (Rm. 1503), Silver Spring, MD 20993. Entrance for the public workshop participants (non-FDA employees) is through Building 1 where routine security check procedures will be performed. For parking and security information, please refer to www.fda.gov/publicmeetinginfo.

FOR FURTHER INFORMATION CONTACT: Rokhsareh Shahidzadeh, Office of Scientific Professional Development, Office of the Chief Scientist, Office of the Commissioner, Food and Drug Administration, 10903 New Hampshire Ave., Bldg. 32, Rm. 2383, Silver Spring, MD 20993, 301-796-8740, FDASciProDev@fda.hhs.gov.

SUPPLEMENTARY INFORMATION:

I. Background

The FDA Science Forum is held biennially to share with the public the unique scientific research and collaborative efforts of our 11,000 scientists and researchers. These scientists and researchers use novel science and technologies to inform FDA's regulatory decision-making—and drive innovation. FDA scientific experts and nationally renowned scientists will speak on the eight topics of the upcoming FDA Science Forum, Transforming Health: Innovation in FDA Science. FDA's Science Forum welcomes the public, industry, academia, patient advocates, sister Agencies, and current and potential collaborators, to learn about the Agency's regulatory science—the type of science that is rarely undertaken by industry or academia, but that makes critical contributions to product quality and safety.

II. Topics for Discussion at the Public Workshop

Sessions in the two-day forum will highlight such areas as FDA research into new predictive tools for developing and evaluating therapeutics, advancing artificial intelligence, evaluating digital health devices, and novel methods of tackling critical public health challenges such as addiction.

III. Participating in the Public Workshop

Registration: To register for the public workshop, please visit the following website: https://www.fda.gov/scienceforum.

Registration is free and based on space availability, with priority given to early registrants. Persons interested in attending this public workshop must register by September 6, 2019, at 5 p.m. Eastern Time. Early registration is recommended because seating is limited; therefore, FDA may limit the number of participants from each organization. Registrants will receive confirmation when they have been accepted.

If you need special accommodations due to a disability, please contact Rokhsareh Shahidzadeh (see FOR FURTHER INFORMATION CONTACT) no later than September 4, 2019, by 5 p.m. Eastern Time.

Streaming Webcast of the public workshop: This public workshop will also be webcast. To register, please visit the following website: https://www.fda.gov/scienceforum. Participants interested in viewing via webcast must register by September 6, 2019, at 5 p.m. Eastern Time.

If you have never attended a Connect Pro event before, test your connection at https://collaboration.fda.gov/common/help/en/support/meeting_test.htm. To get a quick overview of the Connect Pro program, visit https://www.adobe.com/go/connectpro_overview. FDA has verified the website addresses in this document, as of the date this document publishes in the Federal Register, but websites are subject to change over time.

Dated: August 13, 2019.
Lowell J. Schiller,
Principal Associate Commissioner for Policy.

[FR Doc. 2019-17703 Filed 8-16-19; 8:45 am]

BILLING CODE 4164-01-P